DEPARTMENT OF STATE

[Public Notice 6306]

Re-Chartering of the Advisory Committee on International Communications and Information Policy (ACICIP)

SUMMARY: The Advisory Committee on International Communications and Information Policy (ACICIP) has been re-chartered for an additional two years.

The Department of State announces the re-chartering of the Advisory Committee on International Communications and Information Policy (ACICIP), a continuing committee under the authority of 22 U.S.C. 2656 and the Federal Advisory Committee Act, 5 U.S.C., App. II, Secs. 1-5 (“FACA”). ACICIP members are private sector communications and information technology specialists from U.S. telecommunications companies, trade associations, policy institutions, and academia, who advise the Department on issues affecting international communications and information policy.

The Committee is subject to the Federal Advisory Committee Act, which requires advisory committees to renew their charters every two years.

Dated: August 4, 2008.
Emily Yee,
Designated Federal Officer, Department of State.

[FR Doc. E8-18600 Filed 8-11-08; 8:45 am]

BILLING CODE 4710-07-P